DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: National Health Service Corps (NHSC) Travel Request Worksheet, Non-Federal Personnel—In Use Without Approval

The National Health Service Corps (NHSC), of the HRSA's Bureau of Health Professions (BHPr), is committed to improving the health of the Nation's underserved by uniting communities in need with caring health professionals and by supporting communities' efforts to build better systems of care.

The NHSC (sections 331-338 of the Public Health Service Act) collects data on its programs to ensure compliance with legislative mandates and to report to Congress and policymakers on program accomplishments. To meet these objectives, the NHSC requires a core set of information collected annually that is appropriate for monitoring and evaluating performance and reporting on annual trends.

The Travel Request Worksheet is used by NHSC Scholarship Program recipients to receive travel funds from the Federal Government to perform pre-employment interviews at sites on the Approved Practice List. The travel approval process is initiated when the scholar notifies the NHSC's In-Service Support Branch or the respective Bureau of Prisons, Indian Health Service, or Immigration and Naturalization Service recruitment office of an impending interview at one or more NHSC approved practice sites.

The Travel Request Worksheet is also used to initiate the relocation process after an NHSC scholar has successfully match to an approved practice site. Upon receipt of the Travel Request Worksheet, the NHSC will review and approve or disapprove the request and promptly notify the NHSC contractor whether to authorize the funding for the relocation.

Estimates of annualized reporting burden are as follows:

Type of respondent | Number of respondents | Responses per respondent | Hours per response (minutes) | Total burden hours
Health Care Professionals | 311 | 2 | 4 | 41

Written comments and recommendations concerning the proposed information collection should be sent within 30 days of this notice to: Allison Eydt, Human Resources and Housing Branch, Office of Management and Budget, New Executive Office Building, Room 10235, Washington, DC 20503, Fax Number 202-395-6974.

Dated: August 5, 2003.
Jane M. Harrison,
Director, Division of Policy Review and Coordination.

[FR Doc. 03-20382 Filed 8-8-03; 8:45 am]

BILLING CODE 4165-15-P